DEPARTMENT OF ENERGY

Federal Energy Regulatory Commission

[Project No. 15282-000]

White Rapids, LLC; Notice of Effectiveness of Withdrawal of Preliminary Permit Application

On July 6, 2022, White Rapids LLC (White Rapids) filed a preliminary permit application pursuant to section 4(f) of the Federal Power Act, proposing to study the feasibility of the Slater Hydroelectric Project No. 15282 (Slater Project). On May 16, 2023, White Rapids filed a notice of withdrawal of its application.

No motion in opposition to the notice of withdrawal has been filed, and the Commission has taken no action to disallow the withdrawal. Pursuant to Rule 216(b) of the Commission's Rules of Practice and Procedure,¹ the withdrawal of the application became effective on May 31, 2023, and this proceeding is hereby terminated.²

¹ 18 CFR 385.216(b) (2022).

² On January 17, 2023, New England Hydropower Company, LLC filed a notice of intent and pre-application document for the Ashton Dam Project No. 14634 as a competing application to the Slater Project application. Now that the Slater Project application is effectively withdrawn and the proceeding is terminated, the two applications are no longer in competition and any Commission regulations regarding competitive applications are no longer applicable.

Dated: May 31, 2023.
Kimberly D. Bose,
Secretary.

[FR Doc. 2023-12080 Filed 6-5-23; 8:45 am]

BILLING CODE 6717-01-P